NATIONAL COUNCIL ON DISABILITY

Sunshine Act Meetings

Type: Quarterly Meeting.

Dates and Times: March 13-14, 2006, 9 a.m.-5 p.m. e.s.t.

Location: Disney's Coronado Springs Resort, 1001 West Buena Vista Drive, Lake Buena Vista, Florida.

Status: This meeting will be open to the public.

Agenda: Reports from the Chairperson and the Executive Director, Team Reports, Assessment and Planning Session, Unfinished Business, New Business, Announcements, Adjournment.

Sunshine Act Meeting Contact: Mark S. Quigley, Director of Communications, NCD, 1331 F Street, NW., Suite 850, Washington, DC 20004; 202-272-2004 (voice), 202-272-2074 (TTY), 202-272-2022 (fax), mquigley@ncd.gov (e-mail)

Agency Mission: NCD is an independent Federal agency making recommendations to the President and Congress to enhance the quality of life for all Americans with disabilities and their families. NCD is composed of 15 members appointed by the President and confirmed by the U.S. Senate.

Accommodations: Those needing reasonable accommodations should notify NCD at least two weeks before this meeting.

Language Translation: In accordance with E.O. 13166, Improving Access to Services for Persons with Limited English Proficiency, those people with disabilities who are limited English proficient and seek translation services for this meeting should notify NCD at least two weeks before this meeting.

Dated: February 7, 2006.
Ethel D. Briggs,
Executive Director.

[FR Doc. 06-1447 Filed 2-13-06; 11:18 am]

BILLING CODE 6820-MA-P